OFFICE OF PERSONNEL MANAGEMENT

Excepted Service; August 2022

AGENCY: Office of Personnel Management.

ACTION: Notice.

SUMMARY: This notice identifies Schedule A, B, and C appointing authorities applicable to a single agency that were established or revoked from August 1, 2022 to August 31, 2022.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during August 2022.

Schedule B

No Schedule B Authorities to report during August 2022.

Schedule C

The following Schedule C appointing authorities were approved during August 2022.

Agency name | Organization name | Position title | Authorization No. | Effective date
DEPARTMENT OF AGRICULTURE | Office of the Assistant Secretary for Congressional Relations | Senior Advisor | DA220155 | 08/12/2022
| Office of the Secretary | White House Liaison | DA220154 | 08/17/2022
| Farm Service Agency | State Executive Director—Wyoming | DA220159 | 08/26/2022
UNITED STATES AGENCY FOR GLOBAL MEDIA | United States Agency for Global Media | Senior Communications Advisor | IB220001 | 08/16/2022
DEPARTMENT OF COMMERCE | Immediate Office | Special Assistant to the Senior Advisors | DC220167 | 08/26/2022
| Office of International Trade Administration | Senior Advisor to the Under Secretary | DC220168 | 08/26/2022
| National Telecommunications and Information Administration | Press Assistant | DC220166 | 08/26/2022
| Office of Advance, Scheduling and Protocol | Special Assistant | DC220170 | 08/26/2022
| Patent and Trademark Office | Chief Communications Officer | DC220164 | 08/12/2022
COUNCIL ON ENVIRONMENTAL QUALITY | Council on Environmental Quality | Scheduler and Communications Assistant | EQ220001 | 08/10/2022
DEPARTMENT OF DEFENSE | Office of the Assistant Secretary of Defense (Legislative Affairs) | Special Assistant | DD220173 | 08/23/2022
| Office of the Assistant to the Secretary of Defense (Public Affairs) | Speech Writer | DD220174 | 08/23/2022
| Washington Headquarters Services | Special Assistant | DD220175 | 08/26/2022
DEPARTMENT OF THE ARMY | Office of the Under Secretary | Special Assistant to the Under Secretary of the Army | DW220035 | 08/16/2022
DEPARTMENT OF THE NAVY | Office of the Secretary of the Navy | Special Assistant | DN220030 | 08/16/2022
DEPARTMENT OF EDUCATION | Office for Civil Rights | Confidential Assistant | DB220080 | 08/10/2022
| Office of Legislation and Congressional Affairs | Deputy Assistant Secretary for Higher Education | DB220083 | 08/19/2022
| Office of the Deputy Secretary | Confidential Assistant | DB220087 | 08/26/2022
| Office of the Secretary | Deputy Director, White House Initiative on Advancing Educational Equity, Excellence, and Economic Operations | DB220088 | 08/26/2022
DEPARTMENT OF ENERGY | Office of the Secretary | White House Liaison | DE220114 | 08/05/2022
ENVIRONMENTAL PROTECTION AGENCY | Office of the Assistant Administrator for Land and Emergency Management | Public Engagement Advisor | EP220070 | 08/08/2022
|  | Senior Advisor for Implementation | EP220073 | 08/11/2022
EXPORT-IMPORT BANK | Office of the Chairman | Executive Secretary | EB220006 | 08/19/2022
| Office of the Chief of Staff | Senior Advisor, National Security | EB220007 | 08/22/2022
FEDERAL TRADE COMMISSION | Office of the Chair | Compliance and Risk Strategist | FT220006 | 08/17/2022
GENERAL SERVICES ADMINISTRATION | Office of the Administrator | Deputy Chief of Staff for Operations | GS220020 | 08/24/2022
| Office of Strategic Communication | Deputy Associate Administrator for Public Affairs | GS220021 | 08/24/2022
DEPARTMENT OF HEALTH AND HUMAN SERVICES | Office of Administration for Children and Families | Senior Advisor | DH220137 | 08/25/2022
| Office of Intergovernmental and External Affairs | Confidential Assistant | DH220151 | 08/26/2022
| Office of the Assistant Secretary for Health | Senior Advisor, Environmental Justice | DH220139 | 08/25/2022
| Office of the Assistant Secretary for Public Affairs | National Press Secretary | DH220134 | 08/12/2022
DEPARTMENT OF HOMELAND SECURITY | Office of the Secretary | Briefing Book Coordinator Special Assistant to the Chief of Staff | DM220228 DM220255 | 08/04/2022 08/04/2022
| Office of Management Directorate | Senior Advisor | DM220271 | 08/19/2022
DEPARTMENT OF HOUSING AND URBAN DEVELOPMENT | Office of the Secretary | Special Assistant and Briefing Book Coordinator | DU220057 | 08/12/2022
| Office of Housing | Special Policy Advisor (2) | DU220059 DU220060 | 08/22/2022 08/22/2022
| Office of Public Affairs | Digital Strategist | DU220061 | 08/22/2022
|  | Deputy Press Secretary | DU220058 | 08/26/2022
DEPARTMENT OF THE INTERIOR | Secretary's Immediate Office | Briefing Book Coordinator | DI220079 | 08/12/2022
| Bureau of Safety and Environmental Enforcement | Advisor | DI220076 | 08/15/2022
| Secretary's Immediate Office | Deputy Director for Advance | DI220082 | 08/24/2022
| Office of the Assistant Secretary—Land and Minerals Management | Advisor to the Assistant Secretary | DI220081 | 08/25/2022
DEPARTMENT OF JUSTICE | Office of Public Affairs | Deputy Director for Public Engagement | DJ220092 | 08/25/2022
DEPARTMENT OF LABOR | Office of Public Affairs | Press Secretary | DL220072 | 08/05/2022
NATIONAL MEDIATION BOARD | National Mediation Board | Confidential Assistant | NM220003 | 08/08/2022
OFFICE OF PERSONNEL MANAGEMENT | Office of the Director Office of Communications | Executive Assistant Press Secretary | PM220045 PM220046 | 08/19/2022 08/25/2022
SECURITIES AND EXCHANGE COMMISSION | Office of the Chairman | Confidential Assistant | SE220013 | 08/05/2022
SMALL BUSINESS ADMINISTRATION | Office of Communications and Public Liaison | Speech Writer | SB220038 | 08/03/2022
| Office of the Administrator | Director of Public Engagement | SB220041 | 08/11/2022
|  | Deputy Chief of Staff | SB220039 | 08/12/2022
|  | Director of Scheduling and Advance | SB220043 | 08/26/2022
DEPARTMENT OF STATE | Bureau of South and Central Asian Affairs | Deputy Assistant Secretary | DS220064 | 08/10/2022
| Bureau of Conflict and Stabilization Operations | Senior Advisor | DS220067 | 08/22/2022
| Office of the Under Secretary for Civilian Security, Democracy, and Human Rights | Deputy Special Representative | DS220068 | 08/22/2022
| Bureau of Global Public Affairs | Supervisory Public Affairs Specialist | DS220069 | 08/24/2022
| Office of the Under Secretary for Political Affairs | Senior Advisor | DS220070 | 08/24/2022
| Office of the United States Global Aids Coordinator | Senior Advisor | DS220066 | 08/26/2022
DEPARTMENT OF TRANSPORTATION | Office of the Executive Secretariat Office of the Under Secretary of Transportation for Policy | Associate Director Special Advisor for Bipartisan Infrastructure Law Implementation Operations | DT220100 DT220101 | 08/12/2022 08/17/2022
| Office of Civil Rights | Senior Advisor | DT220095 | 08/24/2022
DEPARTMENT OF THE TREASURY | Secretary of the Treasury | Speech Writer | DY220138 | 08/15/2022
|  | Special Assistant | DY220139 | 08/15/2022
UNITED STATES INTERNATIONAL TRADE COMMISSION | Office of Commissioner Johanson | Confidential Assistant | TC220003 | 08/09/2022
DEPARTMENT OF VETERANS AFFAIRS | Office of the Assistant Secretary for Enterprise Integration | Strategic Advisor | DV220072 | 08/31/2022

The following Schedule C appointing authorities were revoked during August 2022.

Agency name | Organization name | Position title | Request No. | Vacate date
DEPARTMENT OF AGRICULTURE | Office of the Secretary | Deputy White House Liaison | DA210065 | 08/27/2022
DEPARTMENT OF COMMERCE | Minority Business Development Agency | Special Assistant | DC210198 | 08/06/2022
| Office of Advance, Scheduling and Protocol | Special Assistant | DC210168 | 08/27/2022
| Office of the Under Secretary for Economic Affairs | Special Advisor | DC220132 | 08/27/2022
DEPARTMENT OF ENERGY | Office of the Assistant Secretary for Energy Efficiency and Renewable Energy | Senior Advisor | DE210113 | 08/25/2022
| Office of the Secretary | White House Liaison | DE210101 | 08/13/2022
DEPARTMENT OF HEALTH AND HUMAN SERVICES | Office of Intergovernmental and External Affairs | Confidential Assistant | DH210106 | 08/27/2022
| Office of the Assistant Secretary for Public Affairs | Press Secretary | DH220036 | 08/13/2022
| Office of the National Coordinator for Health Information Technology | Special Assistant | DH210074 | 08/01/2022
| Office of the Secretary | Scheduler | DH210222 | 08/05/2022
DEPARTMENT OF JUSTICE | Office of Civil Rights Division | Special Assistant | DJ210096 | 08/26/2022
DEPARTMENT OF STATE | Office of the Under Secretary for Economic Growth, Energy, and the Environment | Special Representative | DS220020 | 08/12/2022
ENVIRONMENTAL PROTECTION AGENCY | Office of the Assistant Administrator for Land and Emergency Management | Special Assistant | EP210075 | 08/13/2022
| Office of the Assistant Administrator for Mission Support | Deputy Assistant Administrator for Mission Support | EP210104 | 08/13/2022
FEDERAL TRADE COMMISSION | Office of the Chair | Confidential Assistant | FT220002 | 08/27/2022
OFFICE OF PERSONNEL MANAGEMENT | Office of Communications | Press Secretary Special Assistant | PM210040 PM220022 | 08/13/2022 08/06/2022
SMALL BUSINESS ADMINISTRATION | Office of Entrepreneurial Development | Senior Advisor | SB210047 | 08/13/2022
| Office of Government Contracting and Business Development | Senior Advisor | SB210039 | 08/03/2022
| Office of the Administrator | Special Assistant | SB210032 | 08/27/2022

Authority: 5 U.S.C. 3301 and 3302; E.O. 10577, 3 CFR, 1954-1958 Comp., p. 218.

Office of Personnel Management.
Kayyonne Marston,
Federal Register Liaison.

[FR Doc. 2023-13629 Filed 6-26-23; 8:45 am]

BILLING CODE 6325-39-P